DEPARTMENT OF TRANSPORTATION

Federal Aviation Administration

14 CFR Part 39

[Docket No. FAA-2005-23197; Directorate Identifier 2005-NM-109-AD; Amendment 39-14535; AD 2006-07-08]

RIN 2120-AA64

Airworthiness Directives; McDonnell Douglas Model DC-9-10, DC-9-20, DC-9-30, DC-9-40, and DC-9-50 Series Airplanes

AGENCY: Federal Aviation Administration (FAA), Department of Transportation (DOT).

ACTION: Final rule.

SUMMARY: The FAA is adopting a new airworthiness directive (AD) for certain McDonnell Douglas Model DC-9-10, DC-9-20, DC-9-30, DC-9-40, and DC-9-50 series airplanes. This AD requires repetitive inspections for stress corrosion cracks of the main fuselage frame, and corrective actions if necessary. This AD also provides an optional terminating action for the repetitive inspections. This AD results from several reports of cracking of the main fuselage frame. We are issuing this AD to detect and correct stress corrosion cracking of the main fuselage frame, which could result in extensive damage to adjacent structure and reduced structural integrity of the airplane.

DATES: This AD becomes effective May 5, 2006.

The Director of the Federal Register approved the incorporation by reference of certain publications listed in the AD as of May 5, 2006.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Wahib Mina, Aerospace Engineer, Airframe Branch, ANM-120L, Los Angeles Aircraft Certification Office, FAA, 3960 Paramount Boulevard, Lakewood, California 90712-4137; telephone (562) 627-5324; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model DC-9-10, DC-9-20, DC-9-30, DC-9-40, and DC-9-50 series airplanes. That NPRM was published in the Federal Register on December 6, 2005 (70 FR 72601). That NPRM proposed to require repetitive inspections for stress corrosion cracks of the main fuselage frame, and corrective actions if necessary. That AD also proposed to provide an optional terminating action for the repetitive inspections.

Comments

We provided the public the opportunity to participate in the development of this AD. We have considered the comments received.

Request To Revise the Term “Trim-Out Limits”

The Boeing Company requests that we revise paragraphs (h)(1) and (h)(2) of the NPRM to refer to “crack limits” rather than “trim-out limits.” Boeing points out that the term “trim-out limits” is not used in McDonnell Douglas DC-9 Service Bulletin 53-168, dated November 17, 1983, including McDonnell Douglas Service Sketch 3529, dated August 23, 1983 (hereafter referred to as the “service information”), which was referred to in the NPRM as the appropriate source of service information for accomplishing the required actions.

We agree. Making the suggested change will maintain consistency between the AD and the service information. We have revised paragraphs (h)(1) and (h)(2) of the final rule to refer to crack limits.

Request To Remove Reference to Dye-Penetrant Inspection

Boeing also requests that we revise paragraph (g) of the NPRM to remove the reference to a dye-penetrant inspection. Boeing points out that the service information does not include a dye-penetrant inspection.

We agree. This change also ensures consistency between the AD and the service information. We have revised paragraph (g) of the final rule to remove the reference to a dye-penetrant inspection.

Request To Revise Paragraph (k)

Boeing also requests that we revise paragraph (k) of the NPRM to match the description of the frame in paragraph (d) and add the words “main fuselage” before the word “frame.” Paragraph (k) of the NPRM refers to “a frame made of 7075-T6 aluminum material”; paragraph (d) of the NPRM refers to a “main fuselage frame.”

We agree. This change ensures consistent references within the AD. We have revised paragraph (k) of the final rule to add the words “main fuselage” frame.

Request To Include Delegation in Paragraph (l)

Boeing also requests that we revise the Alternative Methods of Compliance (AMOCs) paragraph to include AMOC delegation to an Authorized Representative for the Boeing Commercial Airplanes Delegation Option Authorization (DOA) Organization whom the FAA has authorized to make such findings.

We disagree. We authorize Boeing Commercial Airplanes DOA Authorized Representatives to approve AMOCs only for AD-required repairs and modifications. This AD requires inspection and/or replacement of the main fuselage frame, but not repairs or modification. We have not changed the final rule in this regard.

Clarification AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 1,017 airplanes of the affected design in the worldwide fleet. The following table provides the estimated costs for U.S. operators to comply with this AD.

Estimated Costs
Action | Work hours | Average labor rate per hour | Parts | Cost per airplane | Number of U.S.- registered airplanes | Fleet cost
Inspection, per inspection cycle | 2 | $65 | $0 | ² $130 | 376 | $48,880, per inspection cycle.
Optional terminating action (replacing the frame) | ¹ 96 | 65 | 7,305 | 13,545 | Up to 376 | Up to $5,092,920.
¹ Per airplane.
² Per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-08 McDonnell Douglas: Amendment 39-14535. Docket No. FAA-2005-23197; Directorate Identifier 2005-NM-109-AD.

Effective Date

(a) This AD becomes effective May 5, 2006.

Affected ADs

(b) None.

Applicability

(c) This AD applies to McDonnell Douglas Model DC-9-11, DC-9-12, DC-9-13, DC-9-14, DC-9-15, DC-9-15F, DC-9-21, DC-9-31, DC-9-32, DC-9-32 (VC-9C), DC-9-32F, DC-9-33F, DC-9-34, DC-9-34F, DC-9-32F (C-9A, C-9B), DC-9-41, and DC-9-51 airplanes; certificated in any category; as identified in McDonnell Douglas DC-9 Service Bulletin 53-168, dated November 17, 1983.

Unsafe Condition

(d) This AD results from several reports of cracking of the main fuselage frame. We are issuing this AD to detect and correct stress corrosion cracking of the main fuselage frame, which could result in extensive damage to adjacent structure, and reduced structural integrity of the airplane.

Compliance

(e) You are responsible for having the actions required by this AD performed within the compliance times specified, unless the actions have already been done.

Service Bulletin Reference

(f) The term “service bulletin,” as used in this AD, means the Accomplishment Instructions of McDonnell Douglas DC-9 Service Bulletin 53-168, dated November 17, 1983, including McDonnell Douglas Service Sketch 3529, dated August 23, 1983.

Repetitive Inspections and Corrective Actions

(g) Prior to the accumulation of 15,000 total flight hours, or within 3,400 flight hours after the effective date of this AD, whichever occurs later: Do a detailed inspection, eddy current inspection, or ultrasonic inspection for stress corrosion cracks of the main fuselage frame in accordance with the service bulletin. Except as provided by paragraph (h) of this AD, repeat the inspection thereafter at intervals not to exceed 8,000 flight hours until the replacement in paragraph (i) of this AD is accomplished.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Actions

(h) If any crack is found during any inspection required by this AD, do the applicable action in paragraph (h)(1), (h)(2), or (h)(3) of this AD.

(1) If the crack is in the pocket area and the crack is within the crack limits specified in McDonnell Douglas Service Sketch 3529, dated August 23, 1983: Repeat the inspection specified in paragraph (g) of this AD at intervals not to exceed 3,400 flight hours until the action in paragraph (i) of this AD is accomplished.

(2) If the crack is in the pocket area and the crack exceeds the crack limits specified in McDonnell Douglas Service Sketch 3529, dated August 23, 1983, before further flight: Do the action in paragraph (i) of this AD.

(3) If the crack is in the web, before further flight: Do the action in paragraph (i) of this AD.

Optional Terminating Action

(i) Replacing the frame with a new or serviceable frame made of 7075-T73 aluminum material in accordance with the service bulletin terminates the repetitive inspection requirements of this AD for that frame only.

No Reporting Required

(j) Although the service bulletin referenced in this AD specifies to submit certain information to the manufacturer, this AD does not include that requirement.

Parts Installation

(k) After the effective date of this AD, no person may install on any airplane a main fuselage frame made of 7075-T6 aluminum material.

Alternative Methods of Compliance (AMOCs)

(l)(1) The Manager, Los Angeles Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(m) You must use McDonnell Douglas DC-9 Service Bulletin 53-168, dated November 17, 1983, including McDonnell Douglas Service Sketch 3529, dated August 23, 1983, to perform the actions that are required by this AD, unless the AD specifies otherwise. (The issue date of the service sketch is shown only on the first sheet of that document.) The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 22, 2006.
Michael Zielinski,
Acting Manager, Transport Airplane Directorate, Aircraft Certification Service.

[FR Doc. 06-3061 Filed 3-30-06; 8:45 am]

BILLING CODE 4910-13-P